ENVIRONMENTAL PROTECTION AGENCY

[FRL-6464.1-04-R10]

Modification of the NPDES General Permit for Concentrated Animal Feeding Operations (CAFOs) Located in Idaho Excluding Tribal Lands (IDG010000)

AGENCY: Environmental Protection Agency (EPA).

ACTION: Modification of NPDES general permit.

SUMMARY: The Environmental Protection Agency (EPA), Region 10, is modifying the National Pollutant Discharge Elimination System (NPDES) General Permit for Concentrated Animal Feeding Operations (CAFOs) in Idaho excluding Tribal lands (IDG010000).

DATES: The issuance date of this modification is December 12, 2024. The modified general permit will be effective February 1, 2025. The general permit will expire on June 14, 2025.

ADDRESSES: Copies of the modified general permit, fact sheet addendums and response to comments document are available online: https://www.epa.gov/npdes-permits/npdes-general-permit-concentrated-animal-feeding-operations-cafos-idaho.

FOR FURTHER INFORMATION CONTACT: Requests may be made to Audrey Washington at (206) 553-0523 or to Nicholas Peak at (208) 378-5765. Requests may also be electronically mailed to: washington.audrey@epa.gov or peak.nicholas@epa.gov.

SUPPLEMENTARY INFORMATION: The modification is a major modification pursuant to 40 CFR 122.62(a)(15). The EPA Region 10 reissued the NPDES General Permit for CAFOs in Idaho (IDG010000) on May 13, 2020; the general permit became effective on June 15, 2020 (85 FR 28624).

Subsequently, a Petition for Review was filed on September 22, 2020, in the Ninth Circuit Court of Appeals, challenging the general permit on the basis that it did not contain representative effluent monitoring to ensure compliance with all applicable effluent limitations in violation of the Clean Water Act and implementing regulations (Food & Water Watch et al v. U.S. Environmental Protection Agency (No. 20-71554). The Court granted the petition holding that the general permit failed to include monitoring to ensure compliance with the discharge prohibitions in the general permit. The general permit remained in effect while the EPA worked to address the issues. The modified general permit includes new and revised conditions to address the Ninth Circuit Court of Appeal's Order and Opinion filed on December 16, 2021 (Food & Water Watch et al. v. U.S. Environmental Protection Agency (No. 20-71554)). The modified general permit will transfer to the State of Idaho as part of the phased implementation of Idaho's administration of the NPDES program. The EPA will remain the permitting authority for CAFO facilities located in Indian Country in Idaho.

The EPA opened two public comment periods on proposed modifications to the existing general permit, one on July 18, 2023 (88 FR 45900) and one on June 6, 2024 (89 FR 48428). The EPA received comments from four organizations/entities on the 2023 permit modification, and from five organizations/entities on the 2024 permit modification. A Response to Comments document was prepared to respond to public comments received and explain any changes made to the draft modified general permit to produce a final modified general permit.

Other Legal Requirements

This permit modification action is not a significant regulatory action and was therefore not submitted to the Office of Management and Budget (OMB) for review. Compliance with Endangered Species Act, Essential Fish Habitat, Paperwork Reduction Act, and other requirements are discussed in the original 2019 Fact Sheet to the general permit.

Appeal of Permit

Any interested person may appeal the final permit action on or before April 11, 2025 (i.e., 120 days from the issuance date of this general permit) in the Federal Court of Appeals in accordance with section 509(b)(1) of the CWA, 33 U.S.C. 1369(b)(1).

Mathew Martinson,
Director, Water Division, Region 10.

[FR Doc. 2024-29241 Filed 12-11-24; 8:45 am]

BILLING CODE 6560-50-P